SMALL BUSINESS ADMINISTRATION

National Small Business Development Center Advisory Board

AGENCY: Small Business Administration.

ACTION: Notice of open Federal advisory committee meeting.

SUMMARY: The U.S. Small Business Administration SBA is announcing the date, time, location and agenda for a meeting of the National Small Business Development Center Advisory Board. Members will convene as an independent source of advice and recommendations on matters related to the Small Business Development Centers Program. The meeting will be open to the public; however, advance notice of attendance is required.

DATES: Tuesday, September 10, 2024, at 2 p.m. EDT.

ADDRESSES: Meeting will be held via Microsoft Teams and in-person located at the Marriott Marquis Atlanta, 265 Peachtree Center Avenue, Atlanta, GA 30303. The access link will be provided to attendees upon request.

FOR FURTHER INFORMATION CONTACT: Rachel Karton, Designated Federal Officer, Office of Small Business Development Centers (OSBDC), U.S. Small Business Administration, 409 Third Street SW, Washington, DC 20416; Rachel.newman-karton@sba.gov; 202-619-1816. The meeting is open to the public; however, advance notice of attendance is required. Those wishing to participate live are encouraged to RSVP, by September 3, 2024, using the contact information above.

OSBDC strongly encourages that public comments and questions pertinent to the SBDC Program be submitted in advance by August 30, 2024. Individuals may email Rachel.newman-karton@sba.gov with subject line—“[Name/Organization] Comment for 09/10/24 Public Meeting.” OSBDC staff will respond to a selection of questions or statements with most relevance to the topic of small business enterprise. Please note that public comments are typically shared during the final few minutes of the meeting.

This event will be held over Microsoft Teams. For technical assistance, please visit the Microsoft Teams Support Page.

SUPPLEMENTARY INFORMATION: Pursuant to section l0(a) of the Federal Advisory Committee Act (5 U.S.C. appendix 2), the SBA announces the meeting of the National SBDC Advisory Board. This Board provides advice and counsel to the SBA Administrator and Associate Administrator for Small Business Development Centers. The purpose of the meeting is to consider recommendations to SBA on matters pertaining to the SBDC Program.

Andrienne Johnson,
Committee Management Officer.

[FR Doc. 2024-17865 Filed 8-9-24; 8:45 am]

BILLING CODE 8026-09-P